INTERNATIONAL TRADE COMMISSION

[Investigation No. 337-TA-1083]

Certain Personal Computers, Mobile Devices, Digital Media Players, and Microconsoles Commission Determination Not To Review an Initial Determination (Order No. 7) Terminating the Investigation

AGENCY: U.S. International Trade Commission.

ACTION: Notice.

SUMMARY: Notice is hereby given that the U.S. International Trade Commission (the “Commission”) has determined not to review a January 2, 2018, initial determination (Order No. 7) (the “ID”) granting a joint motion to terminate this investigation based on a settlement agreement and withdrawal of the complaint. This investigation is terminated.

FOR FURTHER INFORMATION CONTACT: Ron Traud, Office of the General Counsel, U.S. International Trade Commission, 500 E Street SW, Washington, DC 20436, telephone (202) 205-3427. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal at 202-205-1810.

SUPPLEMENTARY INFORMATION: On November 14, 2017, the Commission instituted this investigation under section 337 of the Tariff Act of 1930, as amended, 19 U.S.C. 1337 (“section 337”), based on a complaint filed by Aqua Connect, Inc. of Orange, CA; and Strategic Technology Partners, LLC of Orange, CA (collectively, “Aqua Connect”). 82 FR 55117, 55117-18 (Nov. 14, 2017). The complaint alleges a violation of section 337 by reason of infringement of certain claims of U.S. Patent Nos. RE46,386 and 8,924,502. The complaint named as a respondent Apple Inc. of Cupertino, CA (“Apple”). The Office of Unfair Import Investigations (“OUII”) is also a party in this investigation.

On December 20, 2017, Aqua Connect and Apple filed a confidential joint motion to terminate this investigation based on a settlement agreement (the “Agreement”) and withdrawal of the complaint. On December 21, 2017, the private parties filed a public version of this motion. OUII filed a response supporting the motion.

On January 2, 2018, the administrative law judge issued the ID, which grants the motion. The ID finds that the private parties' motion complies with Commission Rule 210.21(b), particularly finding that the parties have provided a confidential and a public version of the Agreement, and also finding that the parties' motion states that “[t]here are no other agreements, written, oral, express or implied, between Aqua Connect and Apple concerning the subject matter of this investigation.” The ID additionally finds that “there are no extraordinary circumstances that warrant denying the motion.” The ID further considers the public interest, as is required under Commission Rule 210.50(b)(2), and determines that “there is no evidence indicating that terminating this investigation based on the Agreement would be contrary to the public interest.” Accordingly, the ID grants the motion. No petitions for review of the ID were filed.

The Commission has determined not to review the ID. This investigation is terminated.

The authority for the Commission's determination is contained in Section 337 of the Tariff Act of 1930, as amended (19 U.S.C. 1337), and in part 210 of the Commission's Rules of Practice and Procedure (19 CFR part 210).

By order of the Commission.
Issued: January 19, 2018.
Lisa R. Barton,
Secretary to the Commission.

[FR Doc. 2018-01285 Filed 1-23-18; 8:45 am]

BILLING CODE 7020-02-P